DEPARTMENT OF COMMERCE

International Trade Administration

[A-427-814]

Stainless Steel Sheet and Strip in Coils From France: Extension of Time Limit for the Final Results of the Antidumping Duty Administrative Review

AGENCY: Import Administration, International Trade Administration, Department of Commerce.

ACTION: Notice of extension of time limit for the final results of antidumping duty administrative review.

SUMMARY: The Department of Commerce (“the Department”) is extending the time limit for the final results of the review of stainless steel sheet and strip in coils from France. This review covers the period January 4, 1999 through June 30, 2000.

EFFECTIVE DATE: November 2, 2001.

FOR FURTHER INFORMATION CONTACT: Robert Bolling at (202) 482-3434; Office of AD/CVD Enforcement, Group III, Office 9, Import Administration, International Trade Administration, U.S. Department of Commerce, 14th Street and Constitution Avenue, NW, Washington, DC 20230.

Statutory Time Limits

Section 751(a)(3)(A) of the Tariff Act of 1930, as amended (“the Act”), requires the Department of Commerce (“the Department”) to issue the final results of an antidumping duty investigation within 120 days of the date on which the preliminary results are published. However, if the Department concludes that it is not practicable to issue the results by the original deadline, it may extend the 120-day period to 180 days.

Background

On September 6, 2000, the Department published a notice of initiation of the administrative review of stainless steel sheet and strip in coils from France, covering the period January 4, 1999 through June 30, 2000 (65 FR 53980). See Notice of Initiation of Antidumping and Countervailing Duty Administrative Reviews and Requests for Revocation in Part, 65 FR 53980 (September 6, 2000). The preliminary results were published in the Federal Register on August 8, 2001. See Stainless Steel Sheet and Strip in Coils from France: Notice of Preliminary Results of Antidumping Duty Administrative Review (“Preliminary Results”), 66 FR 41538 (August 8, 2001). The current due date for the final results is December 6, 2001.

Extension of Time Limits for the Final Results

Due to the complexity of issues, such as home market affiliated downstream sales, U.S. further manufacturing sales of five entities, and complicated cost accounting issues present in this administrative review, it is not practicable to complete this review with the original time limit. See Memorandum from Edward C. Yang to Joseph A. Spetrini, Extension of Time Limit for the Preliminary Results of Administrative Review of Certain Stainless Steel Sheet and Strip in Coils from France, on file in the Central Records Unit (CRU) of the Main Commerce Building, Room B-099. Therefore, the Department has postponed the deadline for issuing the final results until February 4, 2002, which is 180 days after publication of the Preliminary Results.

Dated: October 25, 2001.
Edward C. Yang,
Acting Deputy Assistant Secretary for Import Administration.

[FR Doc. 01-27619 Filed 11-1-01; 8:45 am]

BILLING CODE 3510-DS-P